DEPARTMENT OF TRANSPORTATION

Research and Special Programs Administration

[Docket RSPA-98-4957]

Extension of Existing Information Collection: Comment Request

AGENCY: Research and Special Programs Administration (RSPA), DOT.

ACTION: Notice and request for public comments.

SUMMARY: This notice requests public participation in the Office of Management and Budget (OMB) approval process regarding an extension of an existing RSPA collection of information. RSPA intends to request OMB approval of information collection 2137-0596, National Pipeline Mapping Program under the Paperwork Reduction Act of 1995 and 5 CFR part 1320.

DATES: Comments on this notice must be received within 60 days of the publication date of this notice to be assured of consideration.

ADDRESSES: Interested persons are invited to send comments in duplicate to the Dockets Facility, U.S. Department of Transportation, Dockets Facility, 400 Seventh St., SW., Washington, DC 20590-0001 or e-mail to http://dms.dot.gov. Please identify the docket and notice numbers shown in the heading of this notice.

FOR FURTHER INFORMATION CONTACT: Marvin Fell, (202) 366-6205, to ask questions about this notice; or write by e-mail to marvin.fell@rspa.dot.gov.

SUPPLEMENTARY INFORMATION: Title: National Pipeline Mapping System Program.

Type of Request: Extension of existing information collection.

Abstract: The Department of Transportation (DOT), along with other Federal and State agencies, has been working side by side with natural gas and hazardous liquid operators to develop a national pipeline mapping system (NPMS). This system depicts and provides data on the entire United States natural gas transmission and hazardous liquid pipeline system operating in the United States. The Pipeline Safety Improvement Act of 2002 promulgated on December 17, 2002, requires that all transmission pipeline operators provide maps of their pipelines. Additionally, it requires updates when ownership or operation of these lines change.

Estimate of Burden: 1 hour per mile.

Respondents: Gas transmission and hazardous liquid operators.

Estimated Number of Respondents: 900.

Estimated Total Annual Burden on Respondents: 157,112 hours.

This document can be reviewed between 10 A.M.—5 p.m. Monday through Friday, excluding Federal holidays, at the Dockets Facility, U.S. Department of Transportation, Room PL-401, 400 Seventh St., SW, Washington, DC 20590.

Comments are invited on: (a) The need for the proposed collection of information for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including the use of appropriate automated, electronic, mechanical, or other technological collection techniques.

All timely written comments to this notice will be summarized and included in the request for OMB approval. All comments will also be available to the public in the docket.

Issued in Washington, DC, on October 29, 2003.
Stacey Gerard,
Associate Administrator for Pipeline Safety.

[FR Doc. 03-28327 Filed 11-10-03; 8:45 am]

BILLING CODE 4910-60-P